DEPARTMENT OF COMMERCE

National Institute of Standards and Technology

Notice of Consortium on “nSoft Consortium”

AGENCY: National Institute of Standards and Technology, Commerce.

ACTION: Notice.

SUMMARY: On June 3, 2011, the National Institute of Standards and Technology (NIST) held a public meeting on its campus to explore the feasibility of establishing a NIST/Industry Consortium on Neutron Metrology for Soft Materials Manufacturing. The notice stated the membership fees would be on the order of Twenty Thousand ($20,000) per year. The initial term of the consortium was intended to be three years. As a result of the October 3, 2011, public meeting, revisions have been made to the membership fee structure and the initial period of time for the consortium. Also, the consortium is open to a limited number of for-profit and not-for-profit institutions.

DATES: This notice is effective on June 29, 2012.

ADDRESSES: Questions about joining the consortium should be sent to Ronald Jones at the National Institute of Standards and Technology; 100 Bureau Drive; MS 8615; Gaithersburg, MD 20899-8615.

FOR FURTHER INFORMATION CONTACT: Ronald L. Jones, Eric K. Lin, or Dan Neumann National Institute of Standards and Technology, 100 Bureau Drive, Stop 8514, Gaithersburg, MD 20899-8514, USA; (301) 975-4624; Fax (301) 975-3928; Email: ronald.jones@nist.gov, eric.lin@nist.gov, dan.neumann@nist.gov.

SUPPLEMENTARY INFORMATION: NIST will form the “nSoft Consortium” to advance and transfer neutron based measurement methods for soft materials manufacturing. The goals of nSoft are to develop neutron-based measurements that address critical needs for manufacturers of soft materials such as polymers, complex fluids, and protein-based materials. Advances in neutron-based measurement science are anticipated through the development of sample environments that closely mimic manufacturing processes, measurement methods to probe and analyze complex mixtures, and data analysis models that support routine measurements with high information content. The consortium will be supervised and administered by NIST. Consortium research and development will be conducted by NIST staff members along with at least one technical representative from each participating member company.

Each member of the consortium will be required to sign a Cooperative Research and Development Agreement (“CRADA”) with NIST. Membership is limited to 40 for-profit institutions and 15 not-for-profit institutions. For-profit membership fees are Twenty Thousand ($20,000) per year, payable by Member to NIST at the time of CRADA execution and annually in August thereafter. For-profit membership fees for members who join in the second half of the year (February through July) will be Ten Thousand ($10,000), payable at the time of CRADA execution. Subsequent membership payments of Twenty Thousand ($20,000) shall be paid each year in August thereafter. Non-profit organizations in lieu of membership fees will contribute personal expertise and materials that are mutually acceptable to NIST and Member. The consortium is designated to last for an initial period of two years.

Dated: June 25, 2012.
Willie E. May,
Associate Director for Laboratory Programs.

[FR Doc. 2012-16015 Filed 6-28-12; 8:45 am]

BILLING CODE 3510-13-P